UNITED STATES POSTAL SERVICE BOARD OF GOVERNORS

Sunshine Act Meeting

TIMES AND DATES: 10:30 a.m., Monday, October 1, 2001; 8:30 a.m., Tuesday, October 2, 2001.

PLACE: Washington, DC, at U.S. Postal Service Headquarters, 475 L'Enfant Plaza, SW., in the Benjamin Franklin Room.

STATUS: October 1 (Closed); October 2 (Open).

MATTERS TO BE CONSIDERED:

Monday, October 1—10:30 a.m. (Closed)

1. Financial Performance.

2. Update on Workforce Planning and Development.

3. Notes to the Financial Statements.

4. Personnel Matters and Compensation Issues.

Tuesday, October 2—8:30 a.m. (Open)

1. Minutes of the Previous Meeting, September 10-11, 2001.

2. Remarks of the Postmaster General and CEO.

3. Board of Governors Calendar Year 2002 Meeting Schedule.

4. Office of the Governors Fiscal Year 2002 Budget.

5. Fiscal Year 2002 Annual Performance Plan—Government Performance and Results Act.

6. Borrowing Resolution.

7. Capital Investments.

a. Wide Area Barcode Reader Replacement.

b. Mail Evaluation, Readability & Lookup Instrument (MERLIN)—Phase 2.

c. Point of Service (POS) ONE—Stage 3.

8. Tentative Agenda for the November 5-6-7, 2001, meeting in Washington, DC.

CONTACT PERSON FOR MORE INFORMATION: David G. Hunter, Secretary of the Board, U.S. Postal Service, 475 L'Enfant Plaza, SW., Washington, DC 20260-1000. Telephone (202) 268-4800.

David G. Hunter,
Secretary.

[FR Doc. 01-24077 Filed 9-21-01; 1:17 pm]

BILLING CODE 7710-12-M